DEPARTMENT OF TRANSPORTATION

Federal Aviation Administration

14 CFR Part 71

[Docket No. FAA-2019-0842; Airspace Docket No. 18-AGL-15]

RIN 2120-AA66

Proposed Amendment of VOR Federal Airways V-59, V-92, V-115, and V-117 in the Vicinity of Newcomerstown, OH

AGENCY: Federal Aviation Administration (FAA), DOT.

ACTION: Notice of proposed rulemaking (NPRM).

SUMMARY: This action proposes to amend VHF Omnidirectional Range (VOR) Federal airways V-59, V-92, V-115, and V-117 due to the planned decommissioning of the VOR portion of the Newcomerstown, OH (CTW), VOR/Distance Measuring Equipment (VOR/DME) navigation aid (NAVAID). The Newcomerstown VOR is being decommissioned in support of the FAA's VOR Minimum Operational Network (MON) program and service availability issues.

DATES: Comments must be received on or before January 24, 2020.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2019-0842; Airspace Docket No. 18-AGL-15 at the beginning of your comments. You may also submit comments through the internet at https://www.regulations.gov.

FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System as necessary to preserve the safe and efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2019-0842; Airspace Docket No. 18-AGL-15) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2019-0842; Airspace Docket No. 18-AGL-15.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

The FAA originally planned to decommission the Newcomerstown, OH, (CTW), VOR during Phase 2 of the VOR Minimum Operational Network (MON) program as one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082. However, based on a failed flight check which rendered seventy-five percent of the VOR service unusable and resulted in the VOR having been out of service since January 31, 2017, the FAA is now planning to decommissioning the Newcomerstown, OH, VOR in July, 2020. The ATS routes effected by the Newcomerstown VOR decommissioning are VOR Federal airways V-59, V-92, V-115, and V-117.

With the planned decommissioning of the Newcomerstown VOR, the remaining ground-based NAVAID coverage in the area is insufficient to enable the continuity of V-59, V-92, V-115, or V-117 within the affected area. As such, the proposed actions would result in airway segments being removed from V-59, V-92, and V-115, and the last airway point (WISKE fix) in V-117 being redefined.

To overcome the proposed removal of the V-59, V-92, and V-115 airway segments, IFR traffic could file point to point using the existing fixes that will remain in place or receive air traffic control (ATC) radar vectors to continue operating though the area. Additionally, the FAA is retaining the Newcomerstown DME facility in place with the same “CTW” identifier to support FAA NextGen flight procedures. To retain V-117 as charted, the FAA is planning to redefine the last airway point (WISKE fix) using intersecting radials from the Bellaire, OH, VOR/DME and the Briggs, OH, VOR/DME NAVAIDs. Visual flight rules (VFR) pilots who elect to navigate via the airways through the affected area could also take advantage of the air traffic services previously listed.

The Proposal

The FAA is proposing an amendment to Title 14 Code of Federal Regulations (14 CFR) part 71 to amend VOR Federal airways V-59, V-92, V-115, and V-117 due to the planned decommissioning of the VOR portion of the Newcomerstown, OH, VOR/DME. The proposed VOR Federal airway actions are described below.

V-59: V-59 currently extends between the Pulaski, VA, VOR/Tactical Air Navigation (VORTAC) NAVAID and Newcomerstown, OH, VOR/DME. The FAA proposes to remove the airway segment between the Parkersburg, WV, VOR/DME and the Newcomerstown, OH, VOR/DME. The unaffected portions of the existing airway would remain as charted.

V-92: V-92 currently extends between the Chicago Heights, IL, VORTAC and Goshen, IN, VORTAC; and between the Newcomerstown, OH; VOR/DME and Bellaire, OH, VOR/DME. The FAA proposes to remove the airway segment between the Newcomerstown, OH, VOR/DME and the Bellaire, OH, VOR/DME. The unaffected portions of the existing airway would remain as charted.

V-115: V-115 currently extends between the Crestview, FL, VORTAC and Franklin, PA, VOR/DME. The FAA proposes to remove the airway segment between the Parkersburg, WV, VORTAC, and the Franklin, PA, VOR/DME. The unaffected portions of the existing airway would remain as charted.

V-117: V-117 currently extends between the Parkersburg, WV; VORTAC and the intersection of the Bellaire, OH, VOR/DME 044° radial and the Newcomerstown, OH, VOR/DME 099° radial (WISKE fix). The FAA proposes to redefine the WISKE fix as the intersection of the existing Bellaire, OH, VOR/DME 044° radial and the new Briggs, OH, 136°(T)/140°(M) radial. The existing airway would remain as charted.

All radials in the route descriptions below that do not reflect True (T)/Magnetic (M) degree radial information are unchanged and stated in True degrees.

VOR Federal airways are published in paragraph 6010(a) of FAA Order 7400.11D dated August 8, 2019, and effective September 15, 2019, which is incorporated by reference in 14 CFR 71.1. The ATS routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6010(a) Domestic VOR Federal Airways.

* * * * *

V-59 [Amended]

From Pulaski, VA; Beckley, WV; to Parkersburg, WV.

* * * * *

V-92 [Amended]

From Chicago Heights, IL; to Goshen, IN.

* * * * *

V-115 [Amended]

From Crestview, FL; INT Crestview 001° and Montgomery, AL, 204° radials; Montgomery; INT Montgomery 323° and Vulcan, AL, 177° radials; Vulcan; Choo Choo, GA; Volunteer, TN; Hazard, KY; Charleston, WV; to Parkersburg, WV.

* * * * *

V-117 [Amended]

From Parkersburg, WV; Bellaire, OH; to INT Bellaire 044° and Briggs, OH, 136°(T)/140°(M) radials.

Issued in Washington, DC, on December 2, 2019.
Scott M. Rosenbloom,
Acting Manager, Rules and Regulations Group.

[FR Doc. 2019-26387 Filed 12-9-19; 8:45 am]

BILLING CODE 4910-13-P